DEPARTMENT OF LABOR

Employment and Training Administration

[TA-W-70,724]

Komatsu Reman Division of Komatsu America Corporation a Subsidiary of Komatsu Limited Including On-Site Leased Workers From KENCO; Lexington, KY; Amended Certification Regarding Eligibility To Apply for Worker Adjustment Assistance

In accordance with section 223 of the Trade Act of 1974, as amended (“Act”), 19 U.S.C. 2273, the Department of Labor issued a Certification of Eligibility to Apply for Worker Adjustment Assistance on July 30, 2009, applicable to workers of Komatsu Reman, a division of Komatsu America Corporation, a subsidiary of Komatsu Limited, Lexington, Kentucky. The notice was published in the Federal Register on September 22, 2009 (74 FR 48303).

At the request of a company official, the Department reviewed the certification for workers of the subject firm. The workers are engaged in the production of remanufactured mining and construction equipment component parts.

The company reports that workers leased from Kenco were employed on-site at the Lexington, Kentucky, location of Komatsu Reman, a division of Komatsu America Corporation, a subsidiary of Komatsu Limited. The Department has determined that these workers were sufficiently under the control of the subject firm to be considered leased workers.

Based on these findings, the Department is amending this certification to include workers leased from Kenco working on-site at the Lexington, Kentucky location of the firm.

The amended notice applicable to TA-W-70,724 is hereby issued as follows:

“All workers of Komatsu Reman, a division of Komatsu America Corporation, a subsidiary of Komatsu Limited, including on-site leased workers from Kenco, Lexington, Kentucky, who became totally or partially separated from employment on or after May 18, 2008, through July 30, 2011, and all workers in the group threatened with total or partial separation from employment on the date of certification through two years from the date of certification, are eligible to apply for adjustment assistance under Chapter 2 of Title II of the Trade Act of 1974, as amended.”

Signed at Washington, DC, this 30th day of July 2010.
Michael W. Jaffe,
Certifying Officer, Division of Trade Adjustment Assistance.

[FR Doc. 2010-20042 Filed 8-12-10; 8:45 am]

BILLING CODE 4510-FN-P